DEPARTMENT OF HOUSING AND URBAN DEVELOPMENT

[Docket No. FR-7008-N-01]

60-Day Notice of Proposed Information Collection: Comment Request: Agency Information Collection Activities: Race and Ethnic Data Collection

AGENCY: Office of Strategic Planning and Management, Grants Management and Oversight Division, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: February 4, 2019.

ADDRESSES: Interested persons are invited to submit comments regarding this proposal. Comments should refer to the proposal by name and/or OMB Control Number and should be sent to: Colette Pollard, Reports Management Officer, QDAM, Department of Housing and Urban Development, 451 7th Street SW, Room 4176, Washington, DC 20410-5000; telephone 202-402-3400 (this is not a toll-free number) or email at Colette.Pollard@hud.gov for a copy of the proposed form. Persons with hearing or speech impairments may access this number through TTY by calling the toll-free Federal Relay Service at (800) 877-8339.

Electronic Submission of Comments. Interested persons may also submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov website can be viewed by other commenters and interested members of the public. Commenters should follow the instructions provided on that site to submit comments electronically.

Note: To receive consideration as public comments, comments must be submitted through one of the methods specified above. Again, all submissions must refer to the docket number and title of the notice.

FOR FURTHER INFORMATION CONTACT: Ann vom Eigen, Grants Management and Oversight Division, Office of Strategic Planning and Management, Department of Housing and Urban Development, 451 Seventh St. SW, Room 3156, Washington, DC 20410 or by email Ann.H.vomEigen@hud.gov or telephone 202-402-2146. This is not a toll-free number. Persons with hearing or speech impairments may access this number through TTY by calling the toll-free Federal Relay Service at (800) 877-8339.

Copies of the proposed data collection form may be requested from Ms. Pollard.

SUPPLEMENTARY INFORMATION: This notice informs the public that the Department will submit the proposed information collection to OMB for review, as required by the Paperwork Reduction Act of 1995 (44 U.S.C. Chapter 35, as amended). HUD is seeking approval from OMB for the information collection described in Section A.

A. Overview of Information Collection

Title of Information Collection: Standardized Form for Collecting Information Regarding Race and Ethnic Data.

Type of Request: Reinstatement, without change, of a previously approved collection for which approval has expired.

OMB Control Number: 2535-0113.

Form Number: Race and Ethnic Data Reporting Form (HUD-27061).

Description of the need for the information and proposed use: The information collected through HUD's standardized Form for the Collection of Race and Ethnic Data is required under 24 CFR—PART 1—Nondiscrimination in Federally Assisted Programs of the Department of Housing and Urban Development—Effectuation of the Title VI of the Civil Rights Act of 1964. HUD's Title VI regulations, specifically 24 CFR 1.6, require recipients of Federal financial assistance to maintain and submit racial and ethnic data so HUD may determine whether such programs comply with Title VI data collection requirements. HUD must offer individuals who are responding to agency data requests for race the option of selecting one or more of five racial categories. HUD must also treat ethnicity as a category separate from race.

Title VI requires recipients of HUD funding to maintain records, make them available to responsible Department officials, and if requested, submit compliance reports. For example, HUD grant programs may request information during program monitoring and compliance reviews to ensure compliance with the nondiscrimination requirements of Title VI.

Estimation of the total numbers of hours needed to prepare the information collection including number of respondents, frequency of response, and hours of response: The form is used by program offices when they negotiate their awards and is maintained on site by the recipient. As HUD initiates approximately 12,000 awards on an annual basis, we expect that there will be 12,000 respondents on an annual basis. HUD estimates that it will take one hour to complete the form, at $60.74 per hour.¹ The total estimated burden would thus reach $728,880.00 on an annual basis. Retrieving the report and providing it to the Department upon request using the same $60.74 cost could reach an additional $182,000 on an annual basis, bringing the total to $911,000.

¹ Estimated cost for respondents is calculated from the June 2018 Department of Labor Bureau of Labor Statistics report on Employer Costs for Employee Compensation determined that the hourly rate of management, professional and related wages and salaries averaged $41.71 per hour plus $19.03 per hour for fringe benefits for a total $60.74 per hour.

Estimation of the Cost to the Federal government: HUD estimates the cost of the maximum burden on HUD staff would total at most $732,960.00. This estimate is based on the assumption that each form would be reviewed for 15 minutes by two HUD employees on an annual basis.²

² Federal staff time is estimated for a GS-13 step 5 hourly rate at $52.66 per hour (from the Office of Personnel Management and the table with Washington-Baltimore-Arlington locality pay), plus 16% fringe benefit for a total of $61.08 per hour.

B. Solicitation of Public Comment

Written comments and suggestions from the public and affected agencies concerning the proposed collection of information are encouraged. Your comments should address one or more of the following four points.

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including using appropriate automated collection techniques or other forms of information technology, e.g., permitting electronic submission of responses.

Affected Public who will be Asked or Required to Respond: The primary respondents are HUD award recipients including, but not limited to, state agencies, local governments, public housing authorities, institutions of higher education, faith based organizations, and non-profit and for profit organizations devoted to community development, housing the homeless, and other activities.

C. Authority: Section 3507 of the Paperwork Reduction Act of 1995, 44 U.S.C. Chapter 35.

Dated: November 19, 2018.
Christopher K. Walsh,
Acting Director, Office of Strategic Planning and Management.

[FR Doc. 2018-26338 Filed 12-3-18; 8:45 am]

BILLING CODE 4210-67-P